DEPARTMENT OF TRANSPORTATION

Federal Aviation Administration

14 CFR Part 39

[Docket No. 2003-NE-20-AD; Amendment 39-13242; AD 2003-14-23]

RIN 2120-AA64

Airworthiness Directives; Rolls-Royce plc RB211-524G2, -524G2-T, -524G3, -524G3-T, -524H, -524H-T, -524H2, and “524H2-T Series, and Models RB211 Trent 768-60, 772-60, and 772B-60 Turbofan Engines; Correction

AGENCY: Federal Aviation Administration (FAA), DOT.

ACTION: Final rule; correction.

SUMMARY: This document makes a correction to Airworthiness Directive (AD) 2003-14-23 applicable to Rolls-Royce plc RB211-524G2, -524G2-T, -524G3, -524G3-T, -524H, -524H-T, -524H2, and “524H2-T Series, and Models RB211 Trent 768-60, 772-60, and 772B-60 turbofan engines that was published in the Federal Register on July 17, 2003. RB211 Trent 768-60, 772-60, and 772B-60 turbofan engine models were included in this AD in error. This document deletes these models from the AD. In all other respects, the original document remains the same.

EFFECTIVE DATE: Effective September 29, 2003.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION: A final rule AD, FR Doc. 03-18078, applicable to Rolls-Royce plc (RR) RB211-524G2, -524G2-T, -524G3, -524G3-T, -524H, -524H-T, -524H2, and -524H2-T series, and models RB211 Trent 768-60, 772-60, and 772B-60 turbofan engines, was published in the Federal Register on July 17, 2003 (68 FR 42242). The following correction is needed:

1. On page 42242, in the second column, the Subject Heading, “Airworthiness Directives; Rolls-Royce plc RB211-524G2, -524G2-T, -524G3, -524G3-T, -524H, -524H-T, -524H2, and “524H2-T Series, and Models RB211 Trent 768-60, 772-60, and 772B-60 Turbofan Engines” is corrected to read “Airworthiness Directives; Rolls-Royce plc RB211-524G2, -524G2-T, -524G3, -524G3-T, -524H, -524H-T, -524H2, and “524H2-T Series Turbofan Engines”.

2. In the second column of page 42242, the first sentence of the Summary, “The FAA is adopting a new airworthiness directive (AD) for Rolls-Royce plc (RR) RB211-524G2, -524G2-T, -524G3, -524G3-T, -524H, -524H-T, -524H2, and -524H2-T series, and models RB211 Trent 768-60, 772-60, and 772B-60 turbofan engines with high pressure compressor (HPC) rotor stage 1 through stage 6 drums, part numbers (P/Ns) FK25502 and FW20195 installed.” is corrected to read “The FAA is adopting a new airworthiness directive (AD) for Rolls-Royce plc (RR) RB211-524G2, -524G2-T, -524G3, -524G3-T, -524H, -524H-T, -524H2, and -524H2-T series turbofan engines with high pressure compressor (HPC) rotor stage 1 through stage 6 drums, part numbers (P/Ns) FK25502 and FW20195 installed.”

3. In the third column of page 42242, the first sentence of the Supplementary Information, “The Civil Aviation Authority (CAA), which is the airworthiness authority for the U.K., recently notified the FAA that an unsafe condition may exist on RR RB211-524G2, -524G2-T, -524G3, -524G3-T, -524H, -524H-T, -524H2, and -524H2-T series, and models RB211 Trent 768-60, -772-60, and 772B-60 turbofan engines with HPC stage 1 through stage 6 drums, P/Ns FK25502 and FW20195 installed.” is corrected to read “The Civil Aviation Authority (CAA), which is the airworthiness authority for the U.K., recently notified the FAA that an unsafe condition may exist on RR RB211-524G2, -524G2-T, -524G3, -524G3-T, -524H, -524H-T, -524H2, and 524H2-T series turbofan engines with HPC stage 1 through stage 6 drums, P/Ns FK25502 and FW20195 installed.”

4. In the first column of page 42243, the second sentence under FAA's Determination and Requirements of This AD “Since an unsafe condition has been identified that is likely to exist or develop on other Rolls-Royce plc RB211-524G2, -524G2-T, -524G3, -524G3-T, -524H, -524H-T, -524H2, and -524H2-T series, and models RB211 Trent 768-60, 772-60, and 772B-60 turbofan engines of this same type design” is corrected to read “Since an unsafe condition has been identified that is likely to exist or develop on other Rolls-Royce plc RB211-524G2, -524G2-T, -524G3, -524G3-T, -524H, -524H-T, -524H2, and “524H2-T series turbofan engines of this same type design,”

§ 39.13 [Corrected]

5. On page 42243, in the third column, the first sentence in paragraph (c) is corrected to read as follows:

(c) This AD applies to Rolls-Royce plc RB211-524G2, -524G2-T, -524G3, -524G3-T, -524H, -524H-T, -524H2, and -524H2-T series turbofan engines with high pressure compressor (HPC) rotor stage 1 through stage 6 drums, part numbers (P/Ns) FK25502 and FW20195 installed. * * *

Issued in Burlington, MA, on September 19, 2003.
Francis A. Favara,
Assistant Manager, Engine and Propeller Directorate, , Aircraft Certification Service.

[FR Doc. 03-24374 Filed 9-26-03; 8:45 am]

BILLING CODE 4910-13-P